DEPARTMENT OF LABOR

Occupational Safety and Health Administration

29 CFR Part 1910

[Docket No. S-023A]

RIN No. 1218-AC08

Updating OSHA Standards Based on National Consensus Standards; General, Incorporation by Reference; Hazardous Materials, Flammable and Combustible Liquids; General Environmental Controls, Temporary Labor Camps; Hand and Portable Powered Tools and Other Hand Held Equipment, Guarding of Portable Powered Tools; Welding, Cutting, and Brazing, Arc Welding and Cutting; Special Industries, Sawmills

AGENCY: Occupational Safety and Health Administration (OSHA), Department of Labor.

ACTION: Withdrawal of direct final rule.

SUMMARY: Due to significant adverse comment, OSHA is withdrawing the direct final rule for Updating OSHA Standards Based on National Consensus Standards; General, Incorporation by Reference; Hazardous Materials, Flammable and Combustible Liquids; General Environmental Controls, Temporary Labor Camps; Hand and Portable Powered Tools and Other Hand Held Equipment, Guarding of Portable Powered Tools; Welding, Cutting, and Brazing, Arc Welding and Cutting; Special Industries, Sawmills, which was published on November 24, 2004 [69 FR 68712]. In that document, OSHA stated that if it received significant adverse comment, the agency would “publish a notice of significant adverse comment in the Federal Register withdrawing this direct final rule * * *” OSHA published a companion proposed rule identical to the direct final rule on the same day. [69 FR 68706]. The agency will address the significant adverse comment and the other comments on the direct final and proposed rules in a new final rule. OSHA will not institute a second comment period.

DATES: The direct final rule published on November 24, 2004 [69 FR 68712] is withdrawn effective February 18, 2005.

FOR FURTHER INFORMATION CONTACT: Lee Smith, Director, Office of Safety Systems, Directorate of Standards and Guidance, Occupational Safety and Health Administration, U.S. Department of Labor, Room N-3609, 200 Constitution Avenue, NW., Washington, DC 20210; telephone: (202) 693-2255.

Authority and Signature: This document was prepared under the direction of Jonathan L. Snare, Acting Assistant Secretary of Labor for Occupational Safety and Health, U.S. Department of Labor, 200 Constitution Avenue, NW., Washington, DC 20210.

It is issued pursuant to sections 4, 6, and 8 of the Occupational Safety and Health Act of 1970 (29 U.S.C. 653, 655, 657) Secretary of Labor's Order 5-2002 (67 FR 65008), and 29 CFR part 1911.

Signed at Washington, DC, this 14th day of February 2005.
Jonathan L. Snare,
Acting Assistant Secretary of Labor.

[FR Doc. 05-3171 Filed 2-17-05; 8:45 am]

BILLING CODE 4510-26-M